DEPARTMENT OF TRANSPORTATION

Federal Highway Administration

Environmental Impact Statement: Wayne County, MI

AGENCY: Federal Highway Administration (FHWA), U.S. DOT.

ACTION: Notice of Clarification regarding the Final Environmental Impact Statement (FEIS) for the Detroit River International Crossing Study.

SUMMARY: This notice clarifies the role of the DVD contained in the back cover of the Final Environmental Impact Statement (FEIS) for the Detroit River International Crossing Study (DRIC). The back cover of the FEIS contains a DVD that is not part of the FEIS and should be disregarded. It has no role in FHWA's NEPA process; and has not and will not be used in FHWA's decision-making process. This action is pursuant to the National Environmental Policy Act (NEPA) of 1969, 42 U.S.C. 4321 et seq., as amended and the Council on Environmental Quality Regulations (40 CFR parts 1500-1508).

DATES: The FEIS was made available to the public on November 25, 2008. EPA published the Notice of Availability on December 5, 2008. This notice does not change the availability date of the FEIS of December 5, 2008.

FOR FURTHER INFORMATION CONTACT:

Ryan Rizzo, Major Project Manager, at FHWA Michigan Division, 315 W. Allegan Street, Room 201; Lansing, MI 48933; by phone at (517) 702-1833, or e-mail at Ryan.Rizzo@fhwa.dot.gov.

David Williams, Environmental Program Manager, FHWA Michigan Division, 315 W. Allegan Street, Room 201; Lansing, MI 48933; by phone at (517) 702-1820; or e-mail at David.Williams@fhwa.dot.gov.

SUPPLEMENTARY INFORMATION: On December 5, 2008, FHWA discovered the DRIC FEIS, which had been distributed to the public, included a DVD in the back cover of the document. This DVD was not presented to FHWA as part of the document it approved and signed on November 21, 2008.

FHWA does not consider the material on the DVD to be part of the approved FEIS. FHWA has directed the Michigan Department of Transportation (MDOT) to remove it from all remaining copies of the FEIS that have not been distributed and to remove it from copies that are currently provided at the repositories. FHWA and MDOT will also inform all FEIS document holders that the DVD is not part of the FEIS.

Authority: 23 CFR 771.117.

Issued on: December 8, 2008.
James J. Steele,
Division Administrator, Lansing, Michigan.

[FR Doc. E8-29592 Filed 12-12-08; 8:45 am]

BILLING CODE 4910-22-P